DEPARTMENT OF TRANSPORTATION

Federal Aviation Administration

[Summary Notice No. PE-2006-21]

Petitions for Exemption; Summary of Petitions Received

AGENCY: Federal Aviation Administration (FAA), DOT.

ACTION: Notice of petition for exemptions received.

SUMMARY: Pursuant to FAA's rulemaking provisions governing the application, processing, and disposition of petitions for exemption, part 11 of Title 14, Code of Federal Regulations (14 CFR), this notice contains summaries of certain petitions seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before July 20, 2006.

ADDRESSES: Send comments on the petition to the Docket Management System, U.S. Department of Transportation, Room Plaza 401, 400 Seventh Street, SW., Washington, DC 20590-0001. You must identify the docket number at the beginning of your comments. If you wish to receive confirmation that the FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Jan Thor (425-227-2127), Transport Airplane Directorate (ANM-113), Federal Aviation Administration, 1601 Lind Ave., SW., Renton, WA 98055-4056; or John Linsenmeyer (202-267-5174), Office of Rulemaking (ARM-1), Federal Aviation Administration, 800 Independence Avenue, SW., Washington, DC 20591. This notice is published pursuant to 14 CFR 11.85 and 11.91.

Issued in Washington, DC, on June 23, 2006.
Anthony F. Fazio,
Director, Office of Rulemaking.

Petitions for Exemption

Docket No.: FAA-2006-25156.

Petitioner: Raytheon Aircraft Company.

Section of 14 CFR Affected: 14 CFR 25.981.

Description of Relief Sought: Raytheon Aircraft Company is seeking a two-year time-limited exemption for compliance with Amendment 25-102 to 14 CFR 25.981 for the Model 4000 type certification program. This program is nearly complete, but will slightly exceed the five-year timeframe established by 14 CFR 21.17. Amendment 25-102 is one of the 14 CFR part 25 rule changes issued since the type certification application date that would now need to be incorporated into the design. The time-limited exemption allows Raytheon Aircraft Company sufficient time to complete analysis, and if required, developed any design changes and retrofit the Model 4000 fleet.

Docket No.: FAA-2006-25155.

Petitioner: Raytheon Aircraft Company.

Section of 14 CFR Affected: 14 CFR 25.1435.

Description of Relief Sought: Raytheon Aircraft Company is seeking a twelve (12) month time limited exemption to 14 CFR 25.1435(a)(1), Amendment 104 for the Model 4000 type certification program. This program is nearly complete, however will slightly exceed the 5 year timeframe established by 14 CFR 21.17. Amendment 104 is one of the 14 CFR part 25 rule changes issued since the type certification application date that would now need to be incorporated into the design. The time-limited exemption will allow Raytheon Aircraft Company sufficient time to complete analysis, testing, and if required, develop any design changes and retrofit the Model 4000 fleet.

[FR Doc. 06-5881 Filed 6-29-06; 8:45 am]

BILLING CODE 4910-13-P